FEDERAL COMMUNICATIONS COMMISSION

[IB Docket 95-59; DA 02-248]

The Preemption of Local Zoning Regulation of Satellite Earth Stations

AGENCY: Federal Communications Commission.

ACTION: Notice.

SUMMARY: In this document , the International Bureau (“Bureau”) announces the list of the petitioners that did not respond to the October 2001 public notice, as set forth in the attached Appendix A. These parties may file a supplemental notice of their intent to pursue their respective petitions for reconsideration within 30 days after publication of this Public Notice in the Federal Register. The Commission intends to dismiss those petitions for reconsideration from parties that do not indicate intent to pursue their respective petitions for reconsideration. To ensure that each party who filed a petition for reconsideration to the 1996 Antenna Order has actual notice and an opportunity to respond.

DATES: Comments are due on or before April 8, 2002; Reply Comments are due on or before April 17, 2002.

ADDRESSES: Electronic comments may be filed using the Commission's Electronic Comment Filing System (ECFS). Comments filed though the ECFS can be sent as an electronic file via Internet to http://www.fcc.gov/e-file/ecfs.html. All other filings must be sent to Office of Secretary, Federal Communications Commission, 445 12th St., SW., Rm TW-A325, Washington, DC 20554.

FOR FURTHER INFORMATION CONTACT: Selina Khan of the International Bureau at 202-418-7282.

SUPPLEMENTARY INFORMATION: This is a summary of the Commission's Public Notice in IB Docket No. 95-59, DA 02-248 (released February 1, 2002). In October 2001, the Bureau released a notice public ¹ asking parties to refresh the record regarding petitions for reconsideration of the 1996 Antenna Order (11 FCC Rcd 5809).² The Bureau noted that, since the release of the 1996 Antenna Order, many of the issues raised in the petitions for reconsideration may have become moot or irrelevant in light of intervening events, including Commission amendment of 1.4000,³ that applies to antennas used to transmit as well as receive both video and nonvideo services.⁴

¹ See Parties Asked to Refresh Record Regarding Reconsideration of Rules Adopted in Preemption of Local Zoning Regulation of Satellite Earth Stations, Public Notice, IB Docket No. 95-59, DA 01-2323, 66 FR 53417 (October 22, 2001) (rel. October 5, 2001) (“Preemption Public Notice”)

² See In the Matter of Local Zoning Regulation of Satellite Earth Stations, Report and Order and Further Notice of Proposed Rulemaking, IB Docket No. 95-59, 61 FR 10710 (March 15, 1996) 11 FCC Rcd 5809, (1996) (“1996 Antenna Order”), consolidated in part with Preemption of Local Zoning Regulation of Satellite Earth Stations and Implementation of Section 207 of the Telecommunication Act of 1996, Restrictions on Over the Air Reception Devices, Report and Order, Memorandum Opinion and Order and Further Notice of Proposed Rulemaking, IB Docket 95-59 and CS Docket No. 96-83, 11 FCC Rcd 19276 (1996).

³ 47 CFR 1.4000.

⁴ Promotion of Competitive Networks in Local Telecommunications Markets, Report and Order, 15 FCC Rcd 22983 (2000).

For these reasons, the Bureau requested that parties that had petitions for reconsideration for the 1996 Antenna Order file a supplemental notice indicating the issues in such petitions, if any, they still wished to have reconsidered. The Bureau stated that, to the extent that parties did not indicate an intent to pursue their respective petitions for reconsideration, the Commission would deem such petitions withdrawn and would dismiss such petitions.⁵ The public notice was published in the Federal Register, 66 FR 53417, October 22, 2001. No party filed in response to this public notice.

⁵ See Preemption Public Notice at 2.

Procedural Matters: Pursuant to §§ 1.415 and 1.419 of the Commission's rules, 47 CFR 1.415, and 1.419, interested parties may file Supplemental Commissions, limited to the issues addressed in this Public Notice, no later than April 8, 2002. Supplemental Reply Comments must be filled no later than April 17, 2002. In view of the tendency of this proceeding, we except to adhere to the schedule set forth in this Public Notice and do not contemplate granting extension of time. Comments should reference IB Docket No. 95-59 and should include the FCC number shown on this Public Notice. Comments may be field using the Commission's Electronic Comment Filing System (ECFS), 63 FR 24121 (May 1, 1998). Comments filed through the ECFS can be sent as an electronic file via Internet to http://www.fcc.gov/e-file/ecfs.html. In completing the transmittal screen, parties responding should include their full name, mailing address, and the applicable docket number, IB Docket 95-59. Parties who choose to file by paper must file an original and four copies of each filing. If more than one docket or rulemaking appear in the caption of the proceeding, commenters must submit two additional copies for each additional docket or rulemaking number. All filing must be sent to the Commission's Acting Secretary, William Caton. Office of the Secretary, Federal Communications Commission, 445 12th St., SW., Rm. TW-A325, Washington, DC 20554. One copy of all comments should also be sent to the Commission's copy contractor, Qualex International, Portals II, 445 12th Street, SW., Room CY-B402, Washington, DC 20554. Copies of all filings are available for public inspection and copying during regular business hours at the FCC Reference Information Center, Portals II, 445 12th Street, SW., Room CY-A257, Washington, DC 20554.

Federal Communications Commission.
William F. Caton,
Acting Secretary.

Appendix A

Petitions for Reconsideration of the 1996 Anntenna Order

AlphaStar Television Network, Inc.

County of Boulder, State of Colorado

DIRECTV, Inc.

Florida League of Cities

Hughes Network Systems, Inc.

Local Communities (the “Cities of Dallas”) ⁶

Local Communities (“National League of Cities”) ⁷

Satellite Broadcasting And Communications Association of America (“SBCA”)

United States Satellite Broadcasting Company, Inc. (“USSB”)

⁶ The Local Communities is composed of local governments nationally and local governments in Cities of Dallas, Texas; Arlington, Texas; Austin, Texas; Fort Worth Texas; Knoxville, Tennessee; the National Association of Counties and the United States Conference of Mayors (hereinafter “The City of Dallas”).

⁷ The National League of Cities is composed of the following: the National Association of Telecommunications Officers and Advisors; the National Trust for Historic Preservation; League of Arizona Cities and Towns; League of California Cities; Colorado Municipal League; Connecticut Conference of Municipalities; Delaware League of Local Governments; Florida League of Cities; Georgia Municipal Association; Association of Idaho Cities; Illinois Municipal League; Indiana Association of Cities and Towns; Iowa League of Cities; League of Kansas Municipalities; Kentucky League of Cities; Maine Municipal Association; Michigan Municipal Association; Michigan Municipal League; League of Minnesota Cities; Mississippi Municipal Association; League of Nebraska Municipalities; New Hampshire Municipal Association; New Jersey State League of Municipalities; New Mexico Municipal League; New York State Conference of Mayors and Municipal Officials; North Carolina League of Municipalities; North Dakota League of Cities; Ohio Municipal League; Oklahoma Municipal League; League of Oregon Cities; Pennsylvania League of Cities and Municipalities; Municipal Association of South Carolina; Texas Municipal League; Vermont League of Cities and Towns; Virginia Municipal; League; Association of Washington Cities; and Wyoming Association of Municipalities (hereinafter the “National League of Cities”).

[FR Doc. 02-5257 Filed 3-7-02; 8:45 am]

BILLING CODE 6712-01-P